DEPARTMENT OF ENERGY

Federal Energy Regulatory Commission

[Docket No. EL16-66-000]

Midwest Generation, LLC; Notice of Institution of Section 206 Proceeding and Refund Effective Date

On June 21, 2016, the Commission issued an order in Docket No. EL16-66-000, pursuant to section 206 of the Federal Power Act (FPA), 16 U.S.C. 824e (2012), instituting an investigation into the justness and reasonableness of Midwest Generation, LLC's Reactive Supply tariff rate. Midwest Generation, LLC, 155 FERC ¶ 61,289 (2016).

The refund effective date in Docket No. EL16-66-000, established pursuant to section 206(b) of the FPA, will be the date of publication of this notice in the Federal Register.

Dated: June 22, 2016.
Kimberly D. Bose,
Secretary.

[FR Doc. 2016-15586 Filed 6-30-16; 8:45 am]

BILLING CODE 6717-01-P